DEPARTMENT OF COMMERCE

International Trade Administration

[A-583-854]

Certain Steel Nails From Taiwan: Partial Rescission of Antidumping Duty Administrative Review; 2017-2018

AGENCY: Enforcement and Compliance, International Trade Administration, Department of Commerce.

SUMMARY: The Department of Commerce (Commerce) is rescinding the administrative review, in part, of the antidumping duty order on certain steel nails from Taiwan for the period July 1, 2017, through June 30, 2018.

DATES: Applicable February 27, 2019.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

On September 10, 2018, based on timely requests for review for 86 companies by Mid Continent Steel & Wire, Inc. (Mid Continent), a domestic producer and interested party,¹ and various Taiwanese companies,² Commerce published in the Federal Register a notice of initiation of an administrative review of the antidumping duty order on certain steel nails from Taiwan covering the period July 1, 2017, through June 30, 2018.³

¹ See Mid Continent's Letter, “Request for Administrative Review,” dated July 31, 2018.

² See Requests for Administrative Review, dated July 31, 2018, from: Romp Coil Nails Industries Inc. (barcode 3736761-01), Hor Liang Industrial Corp. (barcode 3737089-01); PT Enterprise Inc. and Pro-Team Coil Nail Enterprise, Inc. (barcode 3737101-01); and Unicatch Industrial Co., Ltd. (barcode 3737114-01).

³ See Initiation of Antidumping and Countervailing Duty Administrative Reviews, 83 FR 45596 (September 10, 2018) (Initiation Notice).

On October 5, 2018, Mid Continent withdrew its request for administrative review for 80 of the 86 companies in its original request for review.⁴ No other party requested a review of these 80 companies.

⁴ See Mid Continent's Letter, “Withdrawal of Request for Administrative Reviews,” dated October 5, 2018 (Mid Continent Withdrawal Letter).

Partial Rescission of Review

Pursuant to 19 CFR 351.213(d)(1), Commerce will rescind an administrative review, in whole or in part, if the party that requested the review withdraws its request within 90 days of the publication of the notice of initiation of the requested review. Because all active requests for administrative review of the 80 companies listed in the Appendix were withdrawn by Mid Continent within 90 days of the date of publication of the Initiation Notice, and no other interested party requested a review of these 80 companies, Commerce is rescinding this review with respect to these companies in accordance with 19 CFR 351.213(d)(1). The administrative review remains active with respect to Liang Chyuan Industrial Co., Ltd., PT Enterprise, Inc. and its affiliated producer Pro-Team Coil Nail Enterprise, Inc. (collectively, PT); Unicatch Industrial Co. Ltd., Hor Liang Industrial Corp., and Romp Coil Nail Industries Inc.

Assessment

Commerce will instruct U.S. Customs and Border Protection (CBP) to assess antidumping duties on all appropriate entries at a rate equal to the cash deposit of estimated antidumping duties required at the time of entry, or withdrawal from warehouse, for consumption, during the period July 1, 2017, through June 30, 2018, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: February 22, 2019.
James Maeder,
Associate Deputy Assistant Secretary for Antidumping and Countervailing Duty Operations performing the duties of Deputy Assistant Secretary for Antidumping and Countervailing Duty Operations.

Appendix

Companies Rescinded From Review

1. All Precision Co., Ltd.

2. Aplus Pneumatic Corp.

3. Astrotech Steels Private Ltd.

4. Basso Industry Corporation

5. Bonuts Hardware Logistic Co.

6. Challenge Industrial Co., Ltd.

7. Chen Yu-Lan

8. Cheng Ch International Co. Ltd.

9. Chia Pao Metal Co. Ltd.

10. Chite Enterprises Co., Ltd.

11. Concord Int's Engineer Ing & Trading

12. Crown Run Industrial Corp.

13. Daejin Steel Company Ltd.

14. Dragon Iron Factory Co., Ltd.

15. Easylink Industrial Co., Ltd.

16. ECI Taiwan Co., Ltd.

17. Encore Green Co., Ltd.

18. Faithful Engineering Products Co. Ltd.

19. Fastenal Asia Pacific Ltd.

20. Four Winds Corporation

21. Fujian Xinhong Mech. & Elec. Co., Ltd.

22. Fuzhou Royal Floor Co., Ltd.

23. Fuzhou Top Golden Import & Export Co.

24. General Merchandise Consolidators

25. Ginfa World Co. Ltd.

26. Gloex Company

27. Hi-Sharp Industrial Corp. Ltd.

28. Home Value Co., Ltd.

29. Hyup Sung Indonesia

30. Inmax Industries Sdn. Bhd.

31. Inmax Sdn. Bhd.

32. Interactive Corp.

33. J C Grand Corporation

34. Jade Shuttle Enterprise Co., Ltd.

35. Jet Crown International Co., Ltd.

36. Jia Jue Industry Co. Ltd.

37. Jinhai Hardware Co., Ltd.

38. Jinsco International Corp.

39. Korea Wire Co., Ltd.

40. Linkwell Industry Co., Ltd.

41. Locksure Inc.

42. Lu Kang Hand Tools Industrial Co., Ltd.

43. Master United Corp.

44. Nailermate Enterprise Corporation

45. Newrex Screw Corporation

46. Noble Shipping Pvt. Ltd.

47. NS International Ltd.

48. Pacific Concord Internaional Ltd.

49. Panther T&H Industry Co.

50. Patek Tool Co., Ltd.

51. Point Edge Corp.

52. President Industrial Inc.

53. Pronto Great China Corp.

54. Region Industries Co., Ltd.

55. Region International Co. Ltd.

56. Region System Sdn. Bhd.

57. Shanxi Pioneer Hardware Industrial Co., Ltd.

58. Shinn Chuen Corp.

59. Six-2 Fastener Imports Inc.

60. Star World Product and Trading Co., Ltd.

61. Taiwan Shan Yin Int'l Co. Ltd.

62. Taiwan Wakisangyo Co. Ltd.

63. Techart Mechinal Corporation

64. Test-Rite Int'l Co., Ltd.

65. Trans-Top Enterprise Co., Ltd.

66. Transworld Transporation Co., Ltd.

67. Trim International Inc.

68. Tsi-Translink (Taiwan) Co. Ltd.

69. U-Can-Do Hardware Corp.

70. UJL Industries Co., Ltd.

71. Universal Power Shipping Ltd.

72. Vanguard International Co., Ltd.

73. VIM International Enterprise Co., Ltd.

74. Vision Exporters

75. Wattson Fastner Group Inc.

76. Wictory Co. Ltd.

77. Wumax Industry Co., Ltd.

78. Yeh Fong Hsin

79. Yehdyi Enterprise Co., Ltd.

80. Yu Tai World Co., Ltd.

[FR Doc. 2019-03421 Filed 2-26-19; 8:45 am]

BILLING CODE 3510-DS-P